COMMITTEE FOR PURCHASE FROM PEOPLE WHO ARE BLIND OR SEVERELY DISABLED

Procurement List; Additions and Deletion

AGENCY: Committee for Purchase from People Who Are Blind or Severely Disabled.

ACTION: Additions to and Deletion from Procurement List.

SUMMARY: This action adds to the Procurement List services to be furnished by nonprofit agencies employing persons who are blind or have other severe disabilities, and deletes from the Procurement List a service previously furnished by such agencies.

DATES: Effective Date: June 11, 2006.

ADDRESSES: Committee for Purchase From People Who Are Blind or Severely Disabled, Jefferson Plaza 2, Suite 10800, 1421 Jefferson Davis Highway, Arlington, Virginia, 22202-3259.

FOR FURTHER INFORMATION CONTACT: Mary-Carolyn Bell, Telephone: (703) 603-7740, Fax: (703) 603-0655, or e-mail mbell@jwod.gov.

SUPPLEMENTARY INFORMATION:

Additions

On March 17, 2006, the Committee for Purchase From People Who Are Blind or Severely Disabled published notice (71 FR 13810) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Administrative Services, Post Wide, Fort Campbell, Kentucky.

NPA: Huntsville Rehabilitation Foundation, Huntsville, Alabama.

Contracting Activity: Army Contracting Agency, Fort Campbell, Kentucky.

Service Type/Location: Custodial Services, Potter Stewart U.S. Courthouse, 100 East Fifth Street, Cincinnati, Ohio.

NPA: VGS, Inc., Cleveland, Ohio.

Contracting Activity: GSA, Public Buildings Service, Region 5, Chicago, Illinois.

Deletion

On March 10, 2006, the Committee for Purchase From People Who Are Blind or Severely Disabled published notice (71 FR 12339) of proposed deletions to the Procurement List.

After consideration of the relevant matter presented, the Committee has determined that the service listed below is no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the service to the Government.

3. There are no known regulatory alternatives which would accomplish the objectives of the Javits-Wagner-O'Day Act (41 U.S.C. 46-48c) in connection with the service deleted from the Procurement List.

End of Certification

Accordingly, the following service is deleted from the Procurement List:

Service

Service Type/Location: Grounds Maintenance, U.S. Army Reserve Center, 1650 Corey Boulevard, Decatur, Georgia.

NPA: Bobby Dodd Institute, Inc., Atlanta, Georgia.

Contracting Activity: U.S. Army, 81st Regional Support Command, Birmingham, Alabama.

G. John Heyer,
General Counsel.

[FR Doc. E6-7264 Filed 5-11-06; 8:45 am]

BILLING CODE 6353-01-P